DEPARTMENT OF TRANSPORTATION

Office of the Secretary; Applications of Servicios Aereos Profesionales, Inc. for Issuance of New Certificate Authority

AGENCY: Office of the Secretary, DOT.

ACTION: Notice of Order to Show Cause (Order 2000-7-15). Dockets OST-00-6978 and 00-6979.

SUMMARY: The Department of Transportation is directing all interested persons to show cause why it should not issue orders (1) Finding Servicios Aereos Profesionales, Inc., fails to meet the U.S. citizenship requirements of 49 U.S.C. 41102(a)(15), (2) denying it certificates to engage in interstate and foreign scheduled air transportation of persons, property, and mail, and (3) canceling its existing air taxi authority.

DATES: Persons wishing to file objections should do so no later than July 28, 2000.

ADDRESSES: Objections and answers to objections should be filed in Dockets OST-00-6978 and OST-00-6979 and addressed to Department of Transportation Dockets (SVC-124, Room PL-401), 400 Seventh Street, SW., Washington, DC 20590 and should be served upon the parties listed in Attachment A to the order.

FOR FURTHER INFORMATION CONTACT: Ms. Janet A. Davis, Air Carrier Fitness Division (X-56, Room 6401), U.S. Department of Transportation, 400 Seventh Street, SW., Washington, DC 20590, (202) 366-9721.

Dated: July 12, 2000.
A. Bradley Mims,
Acting Assistant Secretary for Aviation and International Affairs.

[FR Doc. 00-18014 Filed 7-14-00; 8:45 am]

BILLING CODE 4910-62-P